ENVIRONMENTAL PROTECTION AGENCY

[Petitions IV-2023-9; FRL-11547-01-R4]

Clean Air Act Operating Permit Program; Order on Petition for Objection to State Operating Permit for Century Aluminum of South Carolina, Inc. (Berkeley County, South Carolina)

AGENCY: Environmental Protection Agency (EPA).

ACTION: Notice of final order on petition.

SUMMARY: The EPA Administrator signed an order dated November 2, 2023, granting in part, and denying in part the petition dated June 9, 2023, from Sierra Club and the Environmental Integrity Project. The petition requested that EPA object to Clean Air Act (CAA) title V operating permit issued by the South Carolina Department of Health and Environmental Control (SCDHEC) to the Century Aluminum of South Carolina, Inc. for its primary aluminum reduction facility located near Mt. Holly, in Berkeley County, South Carolina.

FOR FURTHER INFORMATION CONTACT: Art Hofmeister, Air Permits Section, EPA Region 4, (404) 562-9115, hofmeister.art@epa.gov. The final order and petitions are available at: https://www.epa.gov/title-v-operating-permits/title-v-petition-database.

SUPPLEMENTARY INFORMATION: EPA received a petition from Sierra Club and the Environmental Integrity Project dated June 9, 2023, requesting that EPA object to the issuance of operating permit no. TV-0420-0015 v1.1, issued by SCDHEC to Century Aluminum of South Carolina, Inc. near Mt. Holly, in Berkeley County, South Carolina. On November 2, 2023, the EPA Administrator issued an order granting in part and denying in part the petition. The order itself explains the bases for EPA's decision. Sections 307(b) and 505(b)(2) of the CAA provide that a petitioner may request review of those portions of an order that deny issues in a petition. Any petition for review shall be filed in the United States Court of Appeals for the appropriate circuit no later than January 22, 2024.

Dated: November 16, 2023.
Jeaneanne Gettle,
Acting Regional Administrator, Region 4.

[FR Doc. 2023-25831 Filed 11-21-23; 8:45 am]

BILLING CODE 6560-50-P